DEPARTMENT OF THE TREASURY

Submission for OMB Review; Comment Request

April 5, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 12, 2005 to be assured of consideration.

Internal Revenue Service (IRS)

OMB Number: 1545-1780.

Regulation Project Number: REG-136193-01 Final.

Type of Review: Extension.

Title: Notice of Significant Reduction in the Rate of Future Benefit Accrual.

Description: In order to protect the rights of participants in qualified pension plans, plan administrators must provide notice to plan participants and other parties, if the plan is amended in a particular manner. No government agency receives this information.

Respondents: Business or other for-profit, Farms.

Estimated Number of Respondents: 4,000.

Estimated Burden Hours Respondent: 10 hours.

Frequency of response: Other (once).

Estimated Total Reporting Burden: 40,000 hours.

Clearance Officer: Glenn P. Kirkland (202) 622-3428, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 05-7290 Filed 4-11-05; 8:45 am]

BILLING CODE 4830-01-P